DEPARTMENT OF DEFENSE

Department of the Army

Army Science Board; Notice of Open Meeting

In accordance with section 10(a)(2) of the Federal Advisory Committee Act (P.L. 92-463), announcement is made of the following Committee Meeting:

Name of Committee: Army Science Board (ASB)—Venture Capital.

Date of Meeting: 26-27 April 2001.

Time of Meeting: 0900-1630, 26 April 2001; 0900-1630, 27 April 2001.

Place: Presidential Towers Office Bldg, 11th floor conference room, April 26, 9th floor conference room, April 27, 2511 Jefferson Davis Highway, Arlington, VA 22202-3911.

Agenda: This is the second meeting of The Army Science Board's (ASB) Venture Capital Ad Hoc Study. Briefings will be presented in support of Department of Defense initiatives to access leading edge technologies and on commercial business strategies for accessing leading edge technologies. For further information, please contact Christopher Vuxton, Senior Procurement Analyst, (703) 681-1037. If you plan to attend and require an escort to the 9th floor conference room, please call Mr. Everett R. Gooch on (703) 604-7479.

Damian Bianca,
Executive Secretary, Army Science Board.

[FR Doc. 01-10187 Filed 4-24-01; 8:45 am]

BILLING CODE 3710-08-M